DEPARTMENT OF AGRICULTURE

Natural Resources Conservation Service

Notice of Proposed Changes to Section IV of the Field Office Technical Guide (FOTG) of the Natural Resources Conservation Service in Michigan

AGENCY: Natural Resources Conservation Service (NRCS) in Michigan, US Department of Agriculture.

ACTION: Notice of availability of proposed changes in Michigan NRCS FOTG, Section IV for review and comment.

SUMMARY: It is the intention of NRCS in Michigan to issue revised conservation practice standards in Section IV of the FOTG. The revised standards include:

Herbaceous Wind Barriers (422A)

Riparian Forest Buffer (391)

Cover Crop (340)

Prescribed Grazing (528A)

Wetland Wildlife Habitat Management (644)

Shallow Water Management For Wildlife (646)

Windbreak/Shelterbelt Establishment (380)

Field Border (386)

Early Successional Habitat Development/Management (647)

Stream Crossing and Livestock Access (728)

Agrichemical Containment Facility (702)

Manure Transfer (634)

Closure of Waste Impoundments (360)

Grassed Waterway (412)

DATES: Comments will be received on or before February 21, 2001.

FOR FURTHER INFORMATION CONTACT: Inquire in writing to Kevin Wickey, Assistant State Conservationist for Technology, Natural Resources Conservation Service, 3001 Coolidge Road, Suite 250, E. Lansing, MI 48823. Copies of these standards will be made available upon written request. You may submit electronic requests and comments to Kevin.Wickey@mi.usda.gov.

FOR FURTHER INFORMATION CONTACT: Kevin Wickey 517-324-5279.

SUPPLEMENTARY INFORMATION: Section 393 of the Federal Agriculture Improvement and Reform Act of 1996 states that revisions made after enactment of the law, to NRCS state technical guides used to carry out highly erodible land and wetland provisions of the law, shall be made available for public review and comment. For the next 30 days, the NRCS in Michigan will receive comments relative to the proposed changes. Following that period, a determination will be made by the NRCS in Michigan regarding disposition of those comments and a final determination of change will be made.

Dated: December 22, 2000.
Ronald C. Williams,
State Conservationist, E. Lansing, Michigan.

[FR Doc. 01-1838 Filed 1-19-01; 8:45 am]

BILLING CODE 3410-16-P 4